NUCLEAR REGULATORY COMMISSION

[Docket No. STN 50-456, STN 50-457, STN 50-454, STN 50-455, 50-237, 50-249, 50-373, 50-374, 50-254, and 50-265]

Exelon Generation Company, LLC; Notice of Withdrawal of Application for Amendment to Facility Operating License

The U.S. Nuclear Regulatory Commission (the Commission) has granted the request of Exelon Generation Company, LLC (the licensee) to withdraw its March 23, 2001, application for proposed amendments to Facility Operating License Nos. NPF-72 and NPF-77 for Braidwood Station, Units 1 and 2, located in Will County, IL; License Nos. NPF-37 and NPF-66 for Byron Station, Units 1 and 2, located in Ogle County, IL; License Nos. DPR-19 and DPR-25 for Dresden Nuclear Power Station, Units 2 and 3, located in Grundy County, IL; License Nos. NPF-11 and NPF-18 for LaSalle County Station, Units 1 and 2, located in LaSalle County, IL; and License Nos. DPR-29 and DPR-30, for Quad Cities Nuclear Power Station, Units 1 and 2, located in Rock Island County, IL.

The proposed amendments would have revised the escorting and control requirements for non-designated vehicles, lighting requirements for exterior areas within the protected area, and annual weapons qualifications.

The Commission had previously issued a Notice of Consideration of Issuance of Amendment published in the Federal Register on October 3, 2001, (66 FR 50467). However, by letter dated February 13, 2002, the licensee withdrew the proposed change.

For further details with respect to this action, see the applications for amendment dated March 23, 2001, and the licensee's letter dated February 13, 2002, which withdrew the applications for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 12th day of April 2002.
For the Nuclear Regulatory Commission.
George F. Dick, Jr.,
Sr. Project Manager, Section 2, Project Directorate III, Division of Licensing Project Management, Office of Nuclear Reactor Regulation.

[FR Doc. 02-10843 Filed 5-1-02; 8:45 am]

BILLING CODE 7590-01-P